DEPARTMENT OF LABOR

Mine Safety and Health Administration

Petitions for Modification

The following parties have filed petitions to modify the application of existing safety standards under section 101(c) of the Federal Mine Safety and Health Act of 1977.

1. Kennecott Energy Company

[Docket No. M-2005-071-C]

Kennecott Energy Company, 748 T-7 Road (82718), P.O. Box 1449, Gillette, Wyoming 82717-1449 has filed a petition to modify the application of 30 CFR 77.803 (Fail safe ground check circuits on high-voltage resistance grounded systems) to its Cordero-Rojo Mine (MSHA I.D. No. 48-00992), Jacobs Ranch Mine (MSHA I.D. No. 48-00997) located in Campbell County, Wyoming; Antelope Mine (MSHA I.D. No. 48-01337) located in Converse County, Wyoming; Spring Creek Mine (I.D. No. 24-01457) located in Bighorn County, Montana; and Colowyo Coal Mine (MSHA I.D. No. 05-02962) located in Moffat County, Colorado. The petitioner requests a modification of the existing standard to permit an alternative method of compliance when the boom/mast is raised or lowered during necessary repairs. The petitioner has listed specific procedures in this petition that will be followed when the alternative method is implemented. The petitioner asserts that the proposed alternative method would provide at least the same measure of protection as the existing standard.

Request for Comments

Persons interested in these petitions are encouraged to submit comments via E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before December 2, 2005. Copies of these petitions are available for inspection at that address.

Dated at Arlington, Virginia this 27th day of October 2005.
Rebecca J. Smith,
Acting Director, Office of Standards, Regulations, and Variances.

[FR Doc. 05-21847 Filed 11-1-05; 8:45 am]

BILLING CODE 4510-43-P